COMMITTEE FOR PURCHASE FROM PEOPLE WHO ARE BLIND OR SEVERELY DISABLED

Procurement List Proposed Deletions

AGENCY: Committee for Purchase From People Who Are Blind or Severely Disabled.

ACTION: Proposed deletions from Procurement List.

SUMMARY: The Committee is proposing to delete from the Procurement List products and a service previously furnished by nonprofit agencies.

DATES: Comments must be received on or before: September 11, 2005.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Sheryl D. Kennerly, Telephone: (703) 603-7740, Fax: (703) 603-0655, or e-mail SKennerly@jwod.gov.

SUPPLEMENTARY INFORMATION: This notice is published pursuant to 41 U.S.C 47(a) (2) and 41 CFR 51-2.3. Its purpose is to provide interested persons an opportunity to submit comments on the proposed actions.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and service proposed for deletion from the Procurement List.

End of Certification

The following products and service are proposed for deletion from the Procurement List:

Products

Card Set, Guide, File

NSN: 7530-00-261-3801—Card Set, Guide, File;

NSN: 7530-00-261-3804—Card Set, Guide, File;

NSN: 7530-00-261-3813—Card Set, Guide, File;

NSN: 7530-00-261-3818—Card Set, Guide, File;

NSN: 7530-00-261-3819—Card Set, Guide, File;

NSN: 7530-00-249-5969—Card Set, Guide, File.

NPA: Georgia Industries for the Blind, Bainbridge, Georgia.

Contracting Activity: Office Supplies & Paper Products Acquisition Center, New York, NY.

Service

Service Type/Location: Janitorial/Custodial, Umatilla Depot Activity, Hermiston, Oregon.

NPA: None currently authorized.

Contracting Activity: Department of the Army.

Sheryl D. Kennerly,
Director, Information Management.

[FR Doc. E5-4380 Filed 8-11-05; 8:45 am]

BILLING CODE 6353-01-P